DEPARTMENT OF LABOR

Employment and Training Administration

[TA-W-55,347]

Romar Textile Inc., Ellwood City, PA; Notice of Termination of Investigation

Pursuant to section 221 of the Trade Act of 1974, as amended, an investigation was initiated on July 30, 2004 in response to a worker petition filed by a company official on behalf of workers at Romar Textile, Inc., Ellwood City, Pennsylvania.

The petitioner has requested that the petition be withdrawn. Consequently, the investigation has been terminated.

Signed at Washington, DC this 20th day of August, 2004.
Linda G. Poole,
Certifying Officer, Division of Trade Adjustment Assistance.

[FR Doc. 04-19678 Filed 8-27-04; 8:45 am]

BILLING CODE 4510-30-P